INTERNATIONAL TRADE COMMISSION

[Investigation No. 731-TA-1023 (Final)]

Certain Ceramic Station Post Insulators From Japan

Determination

On the basis of the record ¹ developed in the subject investigation, the United States International Trade Commission (Commission) determines, pursuant to section 735(b) of the Tariff Act of 1930 (19 U.S.C. 1673d(b)) (the Act), that an industry in the United States is materially injured by reason of imports from Japan of certain ceramic station post insulators,² provided for in subheading 8546.20.00 of the Harmonized Tariff Schedule of the United States, that have been found by the Department of Commerce (Commerce) to be sold in the United States at less than fair value (LTFV).

¹ The record is defined in sec. 207.2(f) of the Commission's Rules of Practice and Procedure (19 CFR 207.2(f)).

² The subject products include station post insulators manufactured of porcelain, of standard strength, high strength, or extra-high strength, solid core or cavity core, single unit or stacked unit, assembled or unassembled, and with or without hardware attached, rated at 115 kilovolts (kV) voltage class and above (550 kilovolt Basic Impulse Insulation Level (BIL) and above).

Background

The Commission instituted this investigation effective December 31, 2002, following receipt of a petition filed with the Commission and Commerce by Lapp Insulator Company LLC (Lapp), LeRoy, NY; Newell Porcelain Co., Inc. (Newell), Newell, WV; Victor Insulators, Inc. (Victor), Victor, NY; and the IUE-CWA, AFL-CIO, Washington, DC. The final phase of the investigation was scheduled by the Commission following notification of a preliminary determination by Commerce that imports of certain ceramic station post insulators from Japan were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of July 21, 2003 (68 FR 43162). The hearing was held in Washington, DC, on October 29, 2003, and all persons who requested the opportunity were permitted to appear in person or by counsel.

The Commission transmitted its determination in this investigation to the Secretary of Commerce on December 12, 2003. The views of the Commission are contained in USITC Publication 3655 (December 2003), entitled Certain Ceramic Station Post Insulators from Japan: Investigation No. 731-TA-1023 (Final).

By order of the Commission.
Issued: December 19, 2003.
Marilyn R. Abbott,
Secretary.

[FR Doc. 03-31782 Filed 12-24-03; 8:45 am]

BILLING CODE 7020-02-P